DEPARTMENT OF TRANSPORTATION

Federal Highway Administration

Cancellation of Environmental Impact Statement; Harris and Brazoria Counties, TX

AGENCY: Federal Highway Administration (FHWA), TxDOT.

ACTION: Cancellation of SH 35 EIS.

SUMMARY: In Vol. 68, No. 210/Thursday, October 30, 2003/Notices, FHWA issued a Notice of Intent to advise the public that an Environmental Impact Statement would be prepared for the proposed SH 35 roadway between Bellfort Road and FM 1462 in Harris and Brazoria Counties, Texas. The use of Federal funding for this project is no longer proposed and a State Environmental Impact Statement will be prepared.

FOR FURTHER INFORMATION CONTACT: Mr. Gregory S. Punske, Federal Highway Administration, Texas Division, 300 East 8th Street, Room 826, Austin, Texas 78701, Telephone (512) 536-5960.

Issued on: February 19, 2010.
Gregory S. Punske,
District Engineer, FHWA Texas Division.

[FR Doc. 2010-4036 Filed 3-2-10; 8:45 am]

BILLING CODE 4910-22-M